DEPARTMENT OF AGRICULTURE

Forest Service

San Juan National Forest; Columbine Ranger District; Colorado; Hermosa Land Exchange Analysis

AGENCY: Forest Service, USDA.

ACTION: Notice of intent to prepare an environmental impact statement.

SUMMARY: The San Juan National Forest is studying a proposal for a land exchange whereby Tamarron Properties Associates would offer 330 acres of non-Federal lands to the U.S. Forest Service in exchange for 265 acres of National Forest System lands and an easement for a new road. Any exchange would require by law that the appraised value of the properties be equal. The non-Federal properties include two inholdings adjacent to the Hermosa Roadless area; Mitchell Lakes and Hermosa Creek. The third inholding is a mining claim located in the Weminuche Wilderness area along the Whitehead Gulch Trail southeast of Silverton. Mitchell Lakes parcel is specifically located in T. 37 N., R. 9 W, Section 23 ; Hermosa Park T. 39 N., R. 10 W., Section 24, La Plata County, The Iron Clad Mining Claim is located in Section 11, T. 40 N., R. 7 W., N.M.P.M., Columbine Ranger District, San Juan National Forest, Colorado.

DATES: Formal scoping on the proposed land exchange began on June 11, 2007 and ended on September 10, 2007. Two public open houses were held June 21 and 25, 2007. Public field trips to the parcels were held June 28 and 29, 2007. The draft environmental impact statement is expected in September 2008 and the final environmental impact statement is expected in December 2008.

FOR FURTHER INFORMATION CONTACT: For further information contact Cindy Hockelberg, Columbine Public Lands, POB 439, 367 South Pearl Street, Bayfield, CO 81122; e-mail chockelberg@fs.fed.us., telephone 970-884-1418.

SUPPLEMENTARY INFORMATION:

Purpose and Need for Action

The purpose of and need for action is for (1) more consolidated Federal and private ownership that reduces cost of Federal management and increases management efficiency; and (2) acquisition of significant non-Federal inholdings within the San Juan National Forest in visible and frequented locations so they are not available for development; and (3) additional Federal jurisdiction within Congressionally designated wilderness or other parcels such as wetlands, floodplains, and riparian areas that provide habitat for threatened or endangered species.

The Forest Service is directed to achieve the optimum landownership pattern to provide for the protection and management of resource uses to meet the needs of the nation now and in the future.

Further, the Forest Service is to complete land-for-land exchanges to consolidate National Forest System and private, State, or local government land patterns, to permit needed urban or industrial expansion; or to make other adjustments in landownership in the public interest.

Proposed Action

The proposed action is to complete a land exchange whereby the Forest Service would acquire three non-Federal parcels located within the boundaries of the San Juan National Forest and convey a Federal parcel and road easement for a new road to private ownership.

Possible Alternatives

The following alternatives have been preliminarily identified:

Alternative 1: This alternative is the No Action Alternative. The proposed project as described above would not occur.

Alternative 2: This alternative is the proposed action and the project would occur as described above. This alternative was presented in the public scoping that occurred during the summer of 2007.

Alternative 3: This alternative is responsive to trail use and moves the northern boundary of the Federal parcel south of the proponent's proposed location. The northern boundary for Alternative 3 would keep the trails immediately south and adjacent to the Chris Park wetland in Federal ownership. This alternative would include a road easement and limit use. Restrictions on road use for this alternative, in addition to 4 and 5 may affect the appraised value.

Alternative 4: This alternative would be the same as Alternative 3 but would not include the road easement. Like Alternative 3, this alternative is responsive to the concerns expressed by trail users and will help address visual concerns.

Alternative 5: This alternative would not include a substantial portion of the federal parcel, as described in the proposed alternative. The alternative is designed to preserve major portions of the wagon road and some wetlands. This alternative would not include the road easement and more directly addresses cultural and recreation concerns. A trade-off of this alternative is that acquisition of both large non-Federal parcels may not be possible due to the requirement that the exchange be equal value.

Responsible Official

Mark W. Stiles, Center Manager, San Juan Public Lands, 15 Burnett Court, Durango, CO 81301.

Nature of Decision To Be Made

Given the purpose and need, the deciding official reviews the proposed action and the other alternatives in order to make the following decisions: Will the proposed land exchange occur as proposed, as modified under the various alternatives, or not at all. If the exchange proceeds what mitigation measures will the Forest Service apply to the project?

Scoping Process

Formal scoping has already occurred on this project as described above; comments received indicate that there may be significant impacts for which an EIS is the appropriate level of analysis. Informal scoping responses may be submitted to Cindy Hockelberg (contact information above), if there is an issue that has not been identified.

Preliminary Issues

During review of all public comments and internal input, the Forest Service has identified the following concerns or issues with the proposal: Recreation, particularly with regard to Chris Park campground and the trails that have been created in the area; The Animas Wagon road and its historical status; Socio-economic issues related to tourism and special use permittees who use the area; Visual impacts to those areas that are sensitive, including Highway 550 and Chris Park Campground; Wildlife impacts that may occur to a potential wildlife corridor on the Federal parcel; Wetlands and hydrology, particularly with regard to quality of wetlands on all parcels; and how the non-Federal parcels will be managed if they are acquired.

Early Notice of Importance of Public Participation in Subsequent Environmental Review: A draft environmental impact statement will be prepared for comment. The comment period on the draft environmental impact statement will be 45 days from the date the Environmental Protection Agency publishes the notice of availability in the Federal Register. This is expected to occur around September 2008.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: May 1, 2008.
Mark W. Stiles,
Center Manager.

[FR Doc. E8-10223 Filed 5-7-08; 8:45 am]

BILLING CODE 3410-11-P